DEPARTMENT OF HEALTH AND HUMAN SERVICES

Centers for Medicare & Medicaid Services

[Document Identifier: CMS-R-38 and CMS-R-96]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Conditions of Certification for Rural Health Clinics and Supporting Regulations in 42 CFR 491.9, 491.10, 491.11; Use: The Rural Health Clinic (RHC) conditions of participation are based on criteria prescribed in law and are designed to ensure that each facility has a properly trained staff to provide appropriate care and to assure a safe physical environment for patients. The Centers for Medicare and Medicaid Services (CMS) uses these conditions of participation to certify RHCs wishing to participate in the Medicare program. These requirements are similar in intent to standards developed by industry organizations such as the Joint Commission on Accreditation of Hospitals, and the National League of Nursing/American Public Association and merely reflect accepted standards of management and care to which rural health clinics must adhere. Form Number: CMS-R-38 (OMB#: 0938-0334); Frequency: Recordkeeping and Reporting—Annually and upon initial application for Medicare approval; Affected Public: Business or other for-profit and Not-for-profit institutions; Number of Respondents: 3,674; Total Annual Responses: 3,674; Total Annual Hours: 8,816.

2 Type of Information Collection Request: Extension of a currently approved collection; Title of Information Collection: Emergency and Foreign Hospital Services—Beneficiary Statement of Canadian Travel Claims and Supporting Regulations in 42 CFR 424.123; Use: The emergency services furnished a beneficiary outside the U.S. are covered under Medicare if the foreign hospital meets the conditions for a domestic nonparticipating hospital in addition to one of the following: (1) If the emergency is considered to have occurred within the U.S. and the reason for departure for the U.S. was to obtain treatment; (2) if the emergency occurred in Canada while the beneficiary was traveling between Alaska and another State; (3) if the Canadian or Mexican hospital is closer, more accessible or adequately equipped to handle the illness or injury; or (4) services were rendered aboard a ship in an American port or on the same day the ship arrived or departed from that port. Form Number: CMS-R-96 (OMB#: 0938-0484); Frequency: Reporting—On occasion; Affected Public: Individuals or Households, Business or other for-profit, Not-for-profit institutions; Number of Respondents: 1,100; Total Annual Responses: 1,100; Total Annual Hours: 275.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: September 8, 2006.
Michelle Shortt,
Director, Regulations Development Group, Office of Strategic Operations and Regulatory Affairs.

[FR Doc. E6-15307 Filed 9-14-06; 8:45 am]

BILLING CODE 4120-01-P